NUCLEAR REGULATORY COMMISSION

[Docket No. NRC-2013-0157]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on August 2, 2013 (78 FR 47009).

1. Type of submission, new, revision, or extension: Extension.

2. The title of the information collection: NRC Form 327, “Special Nuclear Material (SNM) and Source Material Physical Inventory Summary Report” and NUREG/BR-0096, “Instructions and Guidance for Completing Physical Inventory Summary Reports.”

3. Current OMB approval number: 3150-0139.

4. The form number if applicable: NRC Form 327.

5. How often the collection is required: Certain licensees possessing strategic SNM are required to report inventories every 6 months. Licensees possessing SNM of moderate strategic significance must report every 9 months. Licensees possessing SNM of low strategic significance must report annually, except two licensees must report their dynamic inventories every 2 months and a static inventory on an annual basis.

6. Who will be required or asked to report: Fuel facility licensees possessing special nuclear material, i.e., enriched uranium, plutonium or U-233.

7. An estimate of the number of annual responses: 35.

8. The estimated number of annual respondents: 7.

9. An estimate of the total number of hours needed annually to complete the requirement or request: 140 hours (4 hours per response × 35 responses).

10. Abstract: NRC Form 327 is submitted by fuel facility licensees to account for special nuclear material. The data is used by NRC to assess licensee material control and accounting programs and to confirm the absence of (or detect the occurrence of) SNM theft or diversion. NUREG/BR-0096 provides specific guidance and instructions for completing the form in accordance with the requirements appropriate for a particular licensee.

The public may examine and have copied for fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 26, 2013. Comments received after this date will be considered if it is practical to do so, but assurance of consideration cannot be given to comments received after this date.

Chad Whiteman, Desk Officer, Office of Information and Regulatory Affairs (3150-0139), NEOB-10202, Office of Management and Budget, Washington, DC 20503.

Comments can also be emailed to Chad_S_Whiteman@omb.eop.gov or submitted by telephone at 202-395-4718.

The NRC Clearance Officer is Tremaine Donnell, telephone: 301-415-6258.

Dated at Rockville, Maryland, this 19th day of November, 2013.
For the Nuclear Regulatory Commission.
Tremaine Donnell,
NRC Clearance Officer, Office of Information Services.

[FR Doc. 2013-28181 Filed 11-22-13; 8:45 am]

BILLING CODE 7590-01-P